POSTAL SERVICE

No FEAR Act Notice

AGENCY: Postal Service.

ACTION: Notice.

SUMMARY: The Notification and Federal Employee Antidiscrimination and Retaliation Act of 2002 (No FEAR Act) requires that each Federal agency provide notice to all employees, former employees, and applicants for employment about the rights and remedies available to them under the anti-discrimination laws and whistleblower protection laws that apply to them. This document fulfills the Postal Service™'s requirement under the regulations promulgated by the Office of Personnel Management to publish the initial notice of such rights and remedies in the Federal Register.

DATES: This notice is effective January 23, 2007.

FOR FURTHER INFORMATION CONTACT: Lynn Martin, National EEO Compliance and Appeals Programs by telephone 202-268-3830; by e-mail at lynn.martin@usps.gov.

SUPPLEMENTARY INFORMATION: The “Notification and Federal Employee Antidiscrimination and Retaliation Act of 2002,” Public Law 107-174, (No FEAR Act) was enacted by Congress on May 15, 2002, for the purpose of, inter alia, holding Federal agencies accountable for violations of antidiscrimination and whistleblower protection laws. Sections 101(1) and 101(6) of the Act state that “Federal agencies cannot be run effectively if those agencies practice or tolerate discrimination,” and that “notifying Federal employees of their rights under discrimination and whistleblower laws should increase Federal agency compliance with the law.” Section 202 of the Act requires that written notification be provided to Federal employees, former Federal employees, and applicants for Federal employment of the rights and protections available to them under the applicable Federal anti-discrimination and whistleblower protection laws. Under section 204 of the No FEAR Act, the Office of Personnel Management (OPM) promulgated regulations to carry out the notification requirements of the Act. This initial notice is being published in accordance with the final OPM regulations at 5 CFR 724.202. This notice specifically describes the anti-discrimination laws and regulations and the whistleblower protection regulations that apply to Postal Service employees. It also describes the methods to be used by Postal Service employees to file complaints under the applicable laws and regulations.

No FEAR Act Notice

On May 15, 2002, Congress enacted the “Notification and Federal Employee Antidiscrimination and Retaliation Act of 2002,” which is now known as the No FEAR Act. One purpose of the Act is to “require that Federal agencies be accountable for violations of antidiscrimination and whistleblower protection laws.” Public Law 107-174, Summary. In support of this purpose, Congress found that “agencies cannot be run effectively if those agencies practice or tolerate discrimination.” Public Law 107-174, Title I, General Provisions, section 101(1).

The Act also requires the United States Postal Service (Postal Service) to provide this notice to Postal Service employees, former Postal Service employees and applicants for Postal Service employment to inform you of the rights and protections available to you under the Federal antidiscrimination laws and whistleblower protection regulations.

Antidiscrimination Laws

A Federal agency cannot discriminate against an employee or applicant with respect to the terms, conditions or privileges of employment on the basis of race, color, religion, sex, national origin, age, disability, marital status or political affiliation. Discrimination against Postal Service employees and applicants on these bases is prohibited by one or more of the following statutes and regulations: 29 U.S.C. 206(d), 631, 633a, 791, 42 U.S.C. 2000e-16, Employee and Labor Relations Manual (ELM) 665.23, 666.12.

If you believe that you have been the victim of unlawful discrimination on the basis of race, color, religion, sex, national origin or disability, you must contact the Postal Service Equal Employment Opportunity (EEO) office using the central telephone number within 45 calendar days of the alleged discriminatory action, or, in the case of a personnel action, within 45 calendar days of the effective date of the action, before you can file a formal complaint of discrimination with the Postal Service. See, e.g. 29 CFR 1614. The central telephone number is: 888-EEO-USPS (888-336-8777), Deaf and hard of hearing call: 800-877-8339, (Federal Relay Service).

If you believe that you have been the victim of unlawful discrimination on the basis of age, you must either contact the EEO office as noted above, within the time period noted above, or give notice of intent to sue to the Equal Employment Opportunity Commission (EEOC) within 180 calendar days of the alleged discriminatory action. If you are alleging discrimination based on marital status or political affiliation, you may pursue a discrimination complaint by filing a grievance through the Postal Service's administrative or negotiated grievance procedures, if such procedures apply and are available. If those procedures do not apply or are not available, you may file a written complaint including as much specific information on the alleged violation as possible with the: Vice President Labor Relations, Postal Service, 475 L'Enfant Plaza, SW., Washington, DC 20260-4100.

Whistleblower Protection

A Postal Service employee with authority to take, direct others to take, recommend or approve any personnel action must not use that authority to take or fail to take, or threaten to take or fail to take, a personnel action against an employee or applicant because of disclosure of information by that individual that is reasonably believed to evidence violations of law, rule or regulation; gross mismanagement; gross waste of funds; an abuse of authority; or a substantial and specific danger to public health or safety, unless disclosure of such information is specifically prohibited by law or such information is specifically required by Executive order to be kept secret in the interest of national defense or the conduct of foreign affairs.

Retaliation against an employee or applicant for making a whistleblower protected disclosure is prohibited by ELM 666.18. If you believe that you have been the victim of whistleblower retaliation, you may file a written complaint with: Postal Service Office of Inspector General Hotline, 1735 N. Lynn Street, Arlington, VA 22209-2005; or via telephone through the toll free Office of Inspector General Hotline at 888-USPS-OIG (888-877-7644). Deaf and hard of hearing may use the TTY telephone number 866-OIG-TEXT (866-644-8398). You may also contact the Office of Inspector General Hotline through e-mail at hotline@uspsoig.gov.

Retaliation for Engaging in Protected Activity

The Postal Service cannot retaliate against an employee or applicant because that individual exercises his or her rights under any of the Federal antidiscrimination laws or whistleblower protection regulations listed above. If you believe that you are the victim of retaliation for engaging in protected activity, you must follow, as appropriate, the procedures described in the Antidiscrimination Laws and Whistleblower Protection sections of this notice or, if applicable, the administrative or negotiated grievance procedures in order to pursue any legal remedy.

Disciplinary Actions

Under the existing laws, the Postal Service retains the right, where appropriate, to discipline a Postal Service employee for conduct that is inconsistent with Federal Antidiscrimination Laws and Whistleblower Protection regulations up to and including removal. Nothing in the No FEAR Act alters existing laws or permits the Postal Service to take unfounded disciplinary action against a Postal Service employee or to violate the procedural rights of a Postal Service employee who has been accused of discrimination.

Additional Information

For further information regarding the No FEAR Act refer to Public Law 107-174 and the Postal Service No FEAR Act Web page http://www.usps.com/nofearact.

Existing Rights Unchanged

Pursuant to section 205 of the No FEAR Act, neither the Act nor this notice creates, expands or reduces any rights otherwise available to any employee, former employee or applicant under the laws of the United States.

Neva R. Watson
Attorney, Legislative.

[FR Doc. E7-849 Filed 1-22-07; 8:45 am]

BILLING CODE 7710-12-P